DEPARTMENT OF VETERANS AFFAIRS

[OMB Control No. 2900-0636]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATE: Comments must be submitted on or before December 20, 2006.

ADDRESSES: Submit written comments on this collect of information through http://www.Regulations.gov; or VA's OMB Desk Officer, OMB Human Resources and Housing Branch, New Executive Office Building, Room 10235, Washington, DC 20503, (202) 395-7316. Please refer to “OMB Control No. 2900-0636” in any correspondence.

FOR FURTHER INFORMATION CONTACT: Denise McLamb, Initiative Coordination Service (005G1), Department of Veterans Affairs, 810 Vermont Avenue, NW., Washington, DC 20420, (202) 565-8374, FAX (202) 565-7870 or e-mail denise.mclamb@mail.va.gov. Please refer to “OMB Control No. 2900-0636.”

SUPPLEMENTARY INFORMATION: Title: Certification Required from Individuals Electing Accelerated Payments and Agreement with Educational Institutions.

OMB Control Number: 2900-0636.

Extension of a currently approved collection.

Abstract: Claimants electing to receive an accelerated payment for educational assistance allowance must certify they received such payment and how the payment was used. The data collected is used to determine the claimant's entitlement to accelerated payment.

An agency may not conduct or sponsor, and a person is not required to respond to a collection of information unless it displays a currently valid OMB control number. The Federal Register Notice with a 60-day comment period soliciting comments on this collection of information was published on June 8, 2006 at pages 33340-33341.

Affected Public: Individuals or household.

Estimated Annual Burden: 97 hours.

Frequency of Response: On occasion.

Estimated Number of Respondents: 743.

Estimated Annual Responses: 1,167.

Dated: November 6, 2006.
By direction of the Secretary.
Denise McLamb,
Program Analyst, Initiative Coordination Service.

[FR Doc. E6-19602 Filed 11-17-06; 8:45 am]

BILLING CODE 8320-01-P